DEPARTMENT OF JUSTICE

[OMB Number 1110-0004]

Agency Information Collection Activities; Proposed eCollection eComments Requested; Extension of a Previously Approved Collection; Number of Law Enforcement Employees as of October 31

AGENCY: Federal Bureau of Investigation, Department of Justice.

ACTION: 60-Day notice.

SUMMARY: The Federal Bureau of Investigation, Department of Justice (DOJ), will be submitting the following information collection request to the Office of Management and Budget (OMB) for review and approval in accordance with the Paperwork Reduction Act of 1995.

DATES: Comments are encouraged and will be accepted for 60 days until March 31, 2025

FOR FURTHER INFORMATION CONTACT: If you have additional comments especially on the estimated public burden or associated response time, suggestions, or need a copy of the proposed information collection instrument with instructions or additional information, please contact Edward L. Abraham, Unit Chief, Crime and Law Enforcement Statistics Unit, FBI, CJIS Division, Module D-2, 1000 Custer Hollow Road, Clarksburg, West Virginia 26306; telephone: 304-625-4830; email: elabraham@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under title 34, United States Code (U.S.C.) section 41303 and 28 U.S.C. 534, this collection requests demographics associated with the number of full and part-time law enforcement employees, both officers and civilians, from federal, state, county, city, university/college, tribal, and territorial law enforcement agencies in order for the FBI's Uniform Crime Reporting Program to serve as the national clearinghouse for the collection and dissemination of police employee data and to publish these statistics in Crime in the Nation and on the Crime Data Explorer.

Overview of This Information Collection

1. Type of Information Collection: Extension of a currently approved collection.

2. The Title of the Form/Collection: Number of Law Enforcement Employees as of October 31.

3. The agency form number, if any, and the applicable component of the Department sponsoring the collection: 1-77. FBI CJIS Division.

4. Affected public who will be asked or required to respond, as well as the obligation to respond: Affected Public federal, state, county, city, university/college, tribal and territorial law enforcement agencies. The obligation to respond is voluntary.

5. An estimate of the total number of respondents and the amount of time estimated for an average respondent to respond: There are approximately 15,080 law enforcement agency respondents submitting once a year for a total of 15,080 responses with an estimated response time of eight minutes each.

6. An estimate of the total annual burden (in hours) associated with the collection: There are approximately 2,311 annual burden hours associated with this information collection. This total is comprised of 2,011 hours estimated burden for completion of the survey and an additional 300 hours for review and any potential expansion of participating agencies.

7. An estimate of the total annual cost burden associated with the collection, if applicable: $0.

Total Burden Hours
Activity | Number of respondents | Frequency (annually) | Total annual responses | Time per response (min.) | Total annual burden (hours)
Ex: Survey (individuals or households) | 15,080 | 1 | 15,080 | 8 | 2,311
Unduplicated Totals | 15,080 |  | 15,080 |  | 2,311

If additional information is required contact: Darwin Arceo, Department Clearance Officer, United States Department of Justice, Justice Management Division, Policy and Planning Staff, Two Constitution Square, 145 N Street NE, 4W-218, Washington, DC.

Dated: January 27, 2025.
Darwin Arceo,
Department Clearance Officer for PRA, U.S. Department of Justice.

[FR Doc. 2025-01961 Filed 1-29-25; 8:45 am]

BILLING CODE 4410-02-P